DEPARTMENT OF ENERGY

Federal Energy Regulatory Commission

[Docket No. GT01-15-000]

Texas Eastern Transmission Corporation; Notice of Tariff Filing

April 20, 2001.

Take notice that on April 12, 2001, Texas Eastern Transmission Corporation (Texas Eastern) and Texas Eastern Transmission, LP (Texas Eastern LP) tendered for filing as part of its FERC Gas Tariff, Seventh Revised Volume No. 1 and First Revised Volume No. 2, the tariff sheets listed in Appendix A and B to the filing, to reflect a corporate name change to become effective April 16, 2001.

Texas Eastern and Texas Eastern LP state that copies of its transmittal letter and appendices have been mailed to all affected customers and interested state commissions.

Any person desiring to be heard or to protest said filing should file a motion to intervene or a protest with the Federal Energy Regulatory Commission, 888 First Street, NE., Washington, DC 20426, in accordance with section 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-10230 Filed 4-24-01; 8:45 am]

BILLING CODE 6717-01-M